DEPARTMENT OF COMMERCE

International Trade Administration

University of Maine System, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m. and 5 p.m. in Room 3720, U.S. Department of Commerce, 14th and Constitution Avenue., NW., Washington, DC.

Docket Number: 10-010.

Applicant: University of Maine System, St. Bangor, ME 04401.

Instrument: Live Color Cathodoluminescence detector accessory for Scanning Electron Microscope.

Manufacturer: Gatan, UK.

Intended Use: See notice at 75 FR 29974, May 28, 2010.

Docket Number: 10-011.

Applicant: Washington University in St. Louis, St. Louis, MO.

Instrument: Electron Microscope.

Manufacturer: Japanese Electron-Optics, Limited (JEOL), Japan.

Intended Use: See notice at 75 FR 29974, May 28, 2010.

Docket Number: 10-012.

Applicant: California Institute of Technology, Pasadena, CA 91125.

Instrument: Electron Microscope.

Manufacturer: FEI Company, Czech Republic.

Intended Use: See notice at 75 FR 29974, May 28, 2010.

Docket Number: 10-013.

Applicant: Howard Hughes Medical Institute, Chevy Chase, MD 20815.

Instrument: Electron Microscope.

Manufacturer: FEI Company, Czech Republic.

Intended Use: See notice at 75 FR 29974, May 28, 2010.

Docket Number: 10-014.

Applicant: Howard Hughes Medical Institute, Chevy Chase, MD 20815.

Instrument: Electron Microscope.

Manufacturer: FEI Company, Czech Republic.

Intended Use: See notice at 75 FR 29974, May 28, 2010.

Docket Number: 10-016.

Applicant: United States Geological Survey, Denver, CO 80225.

Instrument: Electron Microscope.

Manufacturer: FEI Company, Czech Republic.

Intended Use: See notice at 75 FR 29974, May 28, 2010.

Docket Number: 10-017.

Applicant: University of Massachusetts Medical School, Worcester, MA 01655.

Instrument: Electron Microscope.

Manufacturer: FEI Company, Czech Republic.

Intended Use: See notice at 75 FR 29974.

Docket Number: 10-018.

Applicant: Texas Tech University, Lubbock, TX 79409-1021.

Instrument: Electron Microscope.

Manufacturer: Japanese Electron-Optics, Limited, (JEOL), Japan.

Intended Use: See notice at 75 FR 29974, May 28, 2010.

Docket Number: 10-020.

Applicant: Howard Hughes Medical Institute, Chevy Chase, MD 20815.

Instrument: Electron Microscope.

Manufacturer: FEI Company, Czech Republic.

Intended Use: See notice at 75 FR 29974, May 28, 2010.

Comments: None received.

Decision: Approved. No instrument of equivalent scientific value to the foreign instrument, for such purposes as these instruments are intended to be used, was being manufactured in the United States at the time the instruments were ordered.

Reasons: Each foreign instrument is an electron microscope or accessory thereto and is intended for research or scientific educational uses requiring an electron microscope. We know of no electron microscope or accessories thereto which were being manufactured in the United States at the time of order of each instrument.

Dated: June 21, 2010.
Christopher Cassel,
Director, Subsidies Enforcement Office, Import Administration.

[FR Doc. 2010-15498 Filed 6-24-10; 8:45 am]

BILLING CODE 3510-DS-P